DEPARTMENT OF ENERGY

Federal Energy Regulatory Commission

[Project No. 14480-000]

Alaska Electric Light and Power Company; Notice of Preliminary Permit Application Accepted for Filing and Soliciting Comments, Motions To Intervene, and Competing Applications

On January 11, 2013, Alaska Electric Light and Power Company filed an application for a preliminary permit, pursuant to section 4(f) of the Federal Power Act (FPA), proposing to study the feasibility of the Sheep Creek Hydroelectric Project (Sheep Creek Project or project) to be located on Sheep Creek, near the City and Borough of Juneau, Alaska. The project would not affect federal lands. The sole purpose of a preliminary permit, if issued, is to grant the permit holder priority to file a license application during the permit term. A preliminary permit does not authorize the permit holder to perform any land-disturbing activities or otherwise enter upon lands or waters owned by others without the owners' express permission.

The proposed project would consist of the following: (1) A 10-foot-high, 75-foot-long concrete diversion dam at an elevation of 620 feet above mean sea level; (2) an overflow spillway; (3) a 4,750-foot-long, 36-inch-diameter penstock; (4) a powerhouse containing a single, 3.3-megawatt generating unit; (5) a tailrace that would discharge directly into Sheep Creek; (6) a switchyard, located adjacent to the powerhouse, consisting of a single 3.5-megavolt-ampere (MVA) transformer to adjust voltage to 23 kilovolts; and (7) appurtenant facilities. The project would generate an estimated average of 13,317 megawatt-hours annually.

Applicant Contact: Mr. Scott Willis, Alaska Electric Light & Power, 5601 Tonsgard Ct., Juneau, AK 99801; phone: (907) 463-6396.

FERC Contact: Adam Beeco; phone: (202) 502-8655.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14480) in the docket number field to access the document. For assistance, contact FERC Online Support.

Dated: January 25, 2013.
Kimberly D. Bose,
Secretary.

[FR Doc. 2013-02242 Filed 2-1-13; 8:45 am]

BILLING CODE 6717-01-P